DEPARTMENT OF ENERGY

Federal Energy Regulatory Commission

[Docket No. EC04-81-000, et al.]

Ameren Corporation, et al.; Electric Rate and Corporate Filings

March 30, 2004.

The following filings have been made with the Commission. The filings are listed in ascending order within each docket classification.

1. Ameren Corporation; Dynegy Inc.; Illinova Corporation; Illinova Generating Company; Illinois Power Company; Dynegy Midwest Generation, Inc.; and Dynegy Power Marketing, Inc.

[Docket Nos. EC04-81-000 and ER04-673-000]

Take notice that on March 25, 2004, Ameren Corporation, Dynegy Inc., Illinova Corporation (Illinova), Illinova Generating Company (Illinova Generating), and Illinois Power Company (Illinois Power) (collectively, FPA 203 Applicants) filed with the Commission a Joint Application for the Disposition of Jurisdictional Facilities under Section 203 of the Federal Power Act. As further described in the filing, (1) Illinova proposes to sell, and Ameren proposes to purchase, all of the outstanding common stock and approximately 73 percent of the outstanding preferred stock of Illinois Power, (2) Illinova Generating proposes to sell, and AmerenEnergy Resources Company proposes to purchase, Illinova Generating's 20 percent interest in Electric Energy, Inc., and (3) Illinois Power seeks all Commission authorizations needed to join the Midwest Independent Transmission System Operator, Inc. (collectively, the Proposed Transactions). The FPA 203 Applicants request that the Commission find that the Proposed Transactions are consistent with the public interest and approve the Proposed Transactions pursuant to Section 203 of the Federal Power Act, 16 USC 824b (2000), by no later than July 28, 2004.

Further, Dynegy Midwest Generation, Inc. (DMGI) and Dynegy Power Marketing, Inc. (DYPM) (collectively, FPA 205 Applicants) filed a request that the Commission accept for filing, under Section 205 of the Federal Power Act, (1) two power purchase agreements under which DYPM will sell capacity and energy to Illinois Power at negotiated rates, (2) an Interim PPA Rider that amends an existing power purchase agreement between Illinois Power and DMGI; and (3) an agreement under which DMGI will provide Illinois Power with black start service at negotiated rates. The Section 205 Applicants request that the Commission accept these agreements for filing, by no later than July 28, 2004.

Comment Date: May 10, 2004.

2. Southern California Edison Company

[Docket No. ER04-316-002]

Take notice that on March 26, 2004, Southern California Edison Company (SCE), on behalf of its affiliate Mountainview Power Company, LLC (MVL), submitted a revised Power Purchase Agreement between SCE and MVL in compliance with the Commission's order issued February 25, 2004 in Docket No. ER04-316-000, 106 FERC ¶ 61,183 (2004).

Comment Date: April 16, 2004.

3. PJM Interconnection, L.L.C.

[ Docket No. ER04-474-001]

Take notice that on March 26, 2004, PJM Interconnection (PJM) submitted an amendment to its January 23, 2004 filing of an unexecuted interconnection service agreement among PJM, Industrial Power Generating Corporation, and Monongahela Power Company, The Potomac Edison Company, and West Penn Power Company, all doing business as Allegheny Power, in compliance with the deficiency letter issued February 25, 2004 in Docket No. ER04-474-00. PJM states that the amendment includes a substitute ISA to include language regarding release of confidential information to the Commission or its staff. PJM requests waiver of the Commission's notice requirements to allow a January 23, 2004 effective date for the amended ISA.

PJM states that copies of this filing were served upon the official service list and the parties to the agreement.

Comment Date: April 16, 2004.

4. PPL Electric Utilities Corporation

[Docket No. ER04-612-001]

Take notice that on March 25, 2004, PPL Electric Utilities Corporation (PPL Electric) filed a Coordination Agreement between PPL Electric and the Borough of Ephrata, Pennsylvania.

PPL Electric states that it has served a copy of this filing on the Borough of Ephrata.

Comment Date: April 15, 2004.

5. PPL Electric Utilities Corporation

[Docket No. ER04-613-001]

Take notice that on March 25, 2004, PPL Electric Utilities Corporation (PPL Electric) filed a Coordination Agreement between PPL Electric and the Borough of Perkasie, Pennsylvania.

PPL Electric states that it has served a copy of this filing on the Borough of Perkasie.

Comment Date: April 15, 2004.

6. PPL Electric Utilities Corporation

[Docket No. ER04-634-001]

Take notice that on March 25, 2004, PPL Electric Utilities Corporation (PPL Electric) filed Coordination Agreements between PPL Electric and the following Pennsylvania Boroughs: Borough of Blakely, Borough of Catawissa, Borough of Duncannon, Borough of Hatfield, Borough of Lansdale, Borough of Lehighton, Borough of Mifflinburg, Borough of Olyphant, Borough of Quakertown, Borough of St. Clair, Borough of Schuylkill Haven, Borough of Watsontown and Borough of Weatherly (the Boroughs).

PPL Electric states that it has served a copy of this filing on each of the Boroughs.

Comment Date: April 15, 2004.

7. Split Rock Energy LLC

[Docket No. ER04-672-000]

Take notice that on March 25, 2004, Split Rock Energy LLC (Split Rock) tendered for filing a Notice of Cancellation pursuant to 18 CFR 35.15, to reflect cancellation of FERC Electric Rate Schedule No. 4.

Comment Date: April 15, 2004.

8. Wolverine Power Supply Cooperative, Inc.

[Docket No. ER04-674-000]

Take notice that on March 26, 2004, Wolverine Power Supply Cooperative, Inc., (Wolverine) tendered for filing a Notice of Termination of Service Agreement No. 5 under Wolverine's FERC Electric Tariff, First Revised Vol. No. 1. Wolverine states that the parties agreed that the Facilities Agreement would be supplanted by Wolverine's Second Revised Rate Schedule FERC No. 4 upon approval, and the Commission recently approved Wolverine's revised rate effective January 1, 2004. Wolverine requested waiver to permit a cancellation effective date of January 1, 2004, to coincide with the effective date of Wolverine's revised rate schedule.

Wolverine states that a copy of this filing has been served upon Great Lakes Energy Cooperative.

Comment Date: April 16, 2004.

9. Ameren Services Company

[Docket No. ER04-675-000]

Take notice that on March 26, 2004, Ameren Services Company (ASC) tendered for filing an executed Network Integration Transmission Service and Network Operating Agreement between ASC and MidAmerican Energy Company. ASC asserts that the purpose of the Agreements is to permit ASC to provide transmission service to MidAmerican Energy Company, pursuant to Ameren's Open Access Transmission Tariff.

Comment Date: April 16, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-765 Filed 4-5-04; 8:45 am]

BILLING CODE 6717-01-P